GULF COAST ECOSYSTEM RESTORATION COUNCIL

[Docket No. 103282023-1111-01]

Notice of Proposed Subaward Under a Council-Selected Restoration Component Award

AGENCY: Gulf Coast Ecosystem Restoration Council.

ACTION: Notice.

SUMMARY: The Gulf Coast Ecosystem Restoration Council (Council) publishes notice of a proposed subaward from the U.S. Environmental Protection Agency (EPA) to the Woodlands Conservancy in the State of Louisiana, a nonprofit organization, for the purpose of habitat restoration in accordance with the Gulf of Mexico Conservation Enhancement Grant Program (GMCEGP) interagency agreement as approved in the Council's Initial Funded Priorities List (Initial FPL).

FOR FURTHER INFORMATION CONTACT: Please send questions by email to Joshua Easton at joshua.easton@restorethegulf.gov or (504) 252-7717.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award only if certain notice requirements are met. Specifically, at least 30 days before the State or Federal recipient enters into such an agreement, the Council must publish in the Federal Register and deliver to specified Congressional committees the name of the recipient and subrecipient; a brief description of the activity, including its purpose; and the amount of the award. This notice satisfies the Federal Register requirement.

Description of Proposed Action

As specified in the Initial FPL, which is available on the Council's website at https://www.restorethegulf.gov/council-selected-restoration-component/funded-priorities-list, RESTORE Act funds in the amount of $2,472,917 will support the GMCEGP interagency agreement with EPA. EPA will provide a subaward in the amount of $259,766 to Woodlands Conservancy for the restoration and enhancement of habitat for resident & migratory birds in the Woodlands Conservancy lands located in St. Bernard Parish within the Barataria Basin, in the State of Louisiana.

Keala J. Hughes,
Director of External Affairs & Tribal Relations, Gulf Coast Ecosystem Restoration Council.

[FR Doc. 2023-06754 Filed 3-31-23; 8:45 am]

BILLING CODE 6560-58-P